DEPARTMENT OF COMMERCE

Census Bureau

Proposed Information Collection; Comment Request; Quarterly Summary of State & Local Government Tax Revenues

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before April 2, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to Kristina Pasquino-Frates, Chief, State Finance and Tax Statistics Branch, Government and Trade Management Division, U.S. Census Bureau, Headquarters, 5K071, Washington, DC 20233; telephone: 301.763.5034; email: Kristina.marie.pasquino.frates@census.gov.

SUPPLEMENTARY INFORMATION:

I. Abstract

The Census Bureau conducts the Quarterly Summary of State and Local Government Tax Revenue, using the F-71 (Quarterly Survey of Property Tax Collections), F-72 (Quarterly Survey of State Tax Collections), and F-73 (Quarterly Survey of Non-Property Taxes) forms. The Quarterly Summary of State and Local Government Tax Revenue provides quarterly estimates of state and local government tax revenue at the national level, as well as detailed tax revenue data for individual states. The information contained in this survey is the most current information available on a nationwide basis for state and local government tax collections.

The Census Bureau needs state and local tax data to publish benchmark statistics on tax revenues, to provide data to the Bureau of Economic Analysis for Gross Domestic Product (GDP) calculations and other economic indicators, and to provide data for economic research and comparative studies of governmental finances. Tax collection data are used to measure economic activity for the Nation as a whole, as well as for comparison among the various states. Economists and public policy analysts use the data to assess general economic conditions and state and local government financial activities.

The Census Bureau is requesting an extension of the approval of the current forms. No changes to the forms are being requested.

II. Method of Collection

For the Quarterly Survey of Property Tax Collections (Form F-71), the Census Bureau will mail letters quarterly to a sample of approximately 5,500 local tax collection agencies, known to have substantial collections of property tax, requesting their online data submissions.

For the Quarterly Survey of State Tax Collections (Form F-72), the Census Bureau will email letters to each of the 50 state governments and the government of the District of Columbia quarterly requesting their online data submissions or continued coordinated submission through the state government revenue office.

For the Quarterly Survey of Non-Property Taxes (Form F-73), the Census Bureau will mail letters quarterly to a sample of approximately 1,800 local tax collection agencies, known to have substantial collections of local general sales and/or local individual/corporation net income taxes, requesting their online data submissions.

F-71 and F-73 survey data will be collected via the internet. Data for the F-72 survey are collected via email or compilation of data in coordination with the state government revenue office.

In addition to reporting current quarter data, respondents may report data for the previous eight quarters or submit revisions to their previously submitted data. In the event that a respondent cannot report online, they may request a form as a last resort.

In those instances, when the Census Bureau is not able to obtain a response, follow-up operations will be conducted using email and phone calls. Nonresponse weighting adjustments are used to adjust for any unreported units in the sample from the latest available data.

III. Data

OMB Control Number: 0607-0112.

Form Number(s): F-71, F-72, F-73.

Type of Review: Regular submission.

Affected Public: State and local governments and the government of the District of Columbia.

Estimated Number of Respondents: 7,351.

Estimated Time per Response: F-71 = 15 minutes, F-72 = 30 minutes, F-73 = 20 minutes.

Estimated Total Annual Burden Hours: 8,002 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C., Sections 161 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Department of Commerce.

[FR Doc. 2019-00783 Filed 1-31-19; 8:45 am]

BILLING CODE 3510-07-P